DEPARTMENT OF THE INTERIOR

Office of the Secretary

[Docket No. ONRR-2012-0003; DS63600000 DR2PS0000.PX8000 145D0102R2]

U.S. Extractive Industries Transparency Initiative Multi-Stakeholder Group (USEITI MSG) Advisory Committee

AGENCY: Policy, Management and Budget, Interior.

ACTION: Meetings.

SUMMARY: This notice announces the next four meetings of the United States Extractive Industries Transparency Initiative (USEITI) Multi-Stakeholder Group (MSG) Advisory Committee.

DATES: Dates and Times: All four meetings will occur on April 23-24, 2014; June 10-12, 2014; September 9-11, 2014 and November 18-20, 2014; in Washington, DC. in-person from 9:30 a.m. to 5:00 p.m. Eastern Time the first two days, and from 10:30 a.m. to 5:00 p.m. the third day unless otherwise indicated at www.doi.gov/eiti/faca, where agendas, meeting logistics, and meeting materials will be posted.

ADDRESSES: The meetings will be held in Room 5160 of the Main Interior Building, 1849 C Street NW., Washington, DC 20240. Members of the public may attend in person or view documents and presentations under discussion via WebEx at http://bit.ly/1cR9W6t and listen to the proceedings at telephone number 1-866-707-0640 (passcode: 1500538).

FOR FURTHER INFORMATION CONTACT: Rosita Compton Christian, USEITI Secretariat; 1849 C Street NW., MS-4211, Washington, DC 20240. You may also contact the USEITI Secretariat via email at useiti@ios.doi.gov, by phone at 202-208-0272, or by fax at 202-513-0682.

SUPPLEMENTARY INFORMATION: The U.S. Department of the Interior established the USEITI Advisory Committee (Committee) on July 26, 2012, to serve as the initial USEITI multi-stakeholder group. More information about the Committee, including its charter, can be found at www.doi.gov/eiti/faca.

Meeting Agenda: Agenda items for the April 23-24 meeting will include a review of the draft Terms of Reference for procuring an independent administrator for USEITI implementation. The agenda for the June 10-12 meeting will include a review and discussion of the Opt-in process for States and Tribes to participate in USEITI. The agenda for the September 9-11 meeting will include a review and discussion of the reporting template and the Department's hiring of an independent administrator. The agenda for the November 18-20 meeting will include drafting of the work-plan to meet all EITI requirements and planning for 2015.

The final agendas and materials for all meetings will be posted on the USEITI MSG Web site at www.doi.gov/eiti/faca. All Committee meetings are open to the public. Whenever possible, we encourage those participating by telephone to gather in conference rooms in order to share teleconference lines. Please plan to dial into the meeting and/or log-in to WebEx at least 10-15 minutes prior to the scheduled start time in order to avoid possible technical difficulties. Individuals with special needs will be accommodated whenever possible. If you require special assistance (such as an interpreter for the hearing impaired), please notify Interior staff in advance of the meeting at 202-208-0272 or via email at useiti@ios.doi.gov.

The minutes from these proceedings will be posted on USEITI MSG Web site at www.doi.gov/eiti/faca and will also be available for public inspection and copying at our office in the Main Interior Building in Washington, DC, by contacting Interior staff at useiti@ios.doi.gov or by telephone at 202-208-0272. For more information on USEITI, visit www.doi.gov/eiti.

Dated: February 26, 2014.
Amy Holley,
Chief of Staff—Policy, Management and Budget, Department of the Interior.

[FR Doc. 2014-05213 Filed 3-10-14; 8:45 am]

BILLING CODE 4310-T2-P